FEDERAL COMMUNICATIONS COMMISSION

Notice of Public Information Collection(s) Being Submitted for Review to the Office of Management and Budget

November 21, 2007.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 2, 2008. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via Internet at Nicholas_A._Fraser@omb.eop.gov and to Judith-B.Herman@fcc.gov, Federal Communications Commission, Room 10-B441, 445 12th Street, SW., DC 20554 or an e-mail to PRA@fcc.gov. If you would like to obtain or view a copy of this information collection, you may do so by visiting the OMB ROCIS Web site at: http://www.reginfo.gov/public/do/PRAMain.

FOR FURTHER INFORMATION CONTACT: For additional information or copies of the information collection(s), contact Judith B. Herman at 202-418-0214 or via the Internet at Judith-B.Herman@fcc.gov.

SUPPLEMENTARY INFORMATION: OMB Control Number: 3060-0800.

Title: FCC Application for Assignment of Authorization or Transfer of Control: WTB and PSHSB.

Form No.: FCC Form 603.

Type of Review: Revision of a currently approved collection.

Respondents: Individuals or households; business or other for-profit, not-for profit institutions, and state, local or tribal government.

Number of Respondents: 32,751 respondents; 32,751 responses.

Estimated Time per Response: .5-1.75 hours (average).

Frequency of Response: On occasion reporting requirement and recordkeeping requirement.

Obligation to Respond: Mandatory.

Total Annual Burden: 36,846 hours.

Total Annual Cost: $3,111,295.

Privacy Act Impact Assessment: Yes.

Nature and Extent of Confidentiality: Respondents may request materials or information to the Commission be withheld from public inspection under 47 CFR 0.459 of the Commission's rules. Information on the FCC Form 603 is maintained in the Commission's system of records, FCC/WTB-1, “Wireless Services Licensing Records.” These licensee records are publicly available and routinely used in accordance with subsection b. of the Privacy Act of 1974, 5 U.S.C. 552a(b), as amended.

Needs and Uses: The Commission will submit this information collection to the OMB as a revision during this comment period to obtain the full three-year clearance from them. There is a change in the number of respondents/responses, the burden hours and annual costs. The FCC adopted and released a Second Report and Order, FCC 07-132, WT Docket No. 06-150, which changed Schedule B on the FCC Form 603. The Commission added an additional option for coverage requirements on Schedule B due to upcoming Auction 73 of the 700 MHz band licenses which is scheduled for January 16, 2008. The Commission also increased the number of respondents/responses by 200 and thus the burden hours and annual costs.

OMB Control Number: 3060-1058.

Title: FCC Application or Notification for Spectrum Leasing Arrangement or Private Commons Arrangement: WTB and PSHSB.

Form No.: FCC Form 608.

Type of Review: Revision of a currently approved collection.

Respondents: Business or other for-profit, not-for profit institutions, and state, local or tribal government.

Number of Respondents: 1,623 respondents; 1,623 responses.

Estimated Time per Response: 4 hours attorney; 1 hour clerical.

Frequency of Response: On occasion reporting requirement and recordkeeping requirement.

Obligation to Respond: Required to obtain or retain benefits.

Total Annual Burden: 8,115 hours.

Total Annual Cost: $1,334,106.

Privacy Act Impact Assessment: N/A.

Nature and Extent of Confidentiality: Respondents may request materials or information to the Commission be withheld from public inspection under 47 CFR 0.459 of the Commission's rules.

Needs and Uses: The Commission will submit this information collection to the OMB as a revision during this comment period to obtain the full three-year clearance from them. There is a change in the number of respondents/responses, the burden hours and annual costs.

The FCC adopted and released a Second Report and Order, FCC 07-132, WT Docket No. 06-150, which requires additional new respondents to complete the FCC Form 608. The Commission has not changed the FCC Form 608. However, this form is used in the upcoming Auction 73 of the 700 MHz band licenses which is scheduled for January 16, 2008.

OMB Control Number: 3060-1092.

Title: Interim Procedures for Filing Applications Seeking Approval for Designated Entity (DE) Events and Annual Reports.

Form Nos.: FCC Forms 609-T and 611-T.

Type of Review: Revision of a currently approved collection.

Respondents: Business or other for-profit, not-for profit institutions, and state, local or tribal government.

Number of Respondents: 1,100 respondents; 2,750 responses.

Estimated Time per Response: 4-7 hours (average).

Frequency of Response: On occasion and annual reporting requirements.

Obligation to Respond: Required to obtain or retain benefits.

Total Annual Burden: 7,288 hours.

Total Annual Cost: $1,494,625.

Privacy Act Impact Assessment: N/A.

Nature and Extent of Confidentiality: Respondents may request materials or information to the Commission be withheld from public inspection under 47 CFR 0.459 of the Commission's rules.

Needs and Uses: The Commission will submit this information collection to the OMB as a revision during this comment period to obtain the full three-year clearance from them. There is a change in the number of respondents/responses, the burden hours and annual costs. The FCC adopted and released a Second Report and Order, FCC 07-132, WT Docket No. 06-150, which changed Schedule B on the FCC Form 603. There is a change in the number of respondents/responses, the burden hours and annual costs due to an increase in additional respondents.

The FCC adopted and released a Second Report and Order, FCC 07-132, WT Docket No. 06-150, which requires additional new respondents to complete the FCC Forms 609-T and 611-T. The Commission has not revised these forms. However, this form is used in the upcoming Auction 73 of the 700 MHz band licenses which is scheduled for January 16, 2008.

Federal Communications Commission.
Marlene H. Dortch,
Secretary.

[FR Doc. E7-23259 Filed 11-30-07; 8:45 am]

BILLING CODE 6712-01-P